ENVIRONMENTAL PROTECTION AGENCY

[ER-FRL-6693-4]

Intent To Prepare an Environmental Impact Statement; Apra Harbor, GU

AGENCY: U.S. Environmental Protection Agency (EPA).

ACTION: Notice of Intent to prepare an Environmental Impact Statement (EIS) to designate a permanent ocean dredged material disposal site (ODMDS) off Apra Harbor, Guam.

Purpose: EPA has the authority to designate ODMDSs under section 102 of the Marine Protection, Research and Sanctuaries Act (MPRSA) of 1972 (33 USC 1401 et. seq.). It is EPA's policy to publish an EIS for all ODMDS designations (39 FR 37119, October 1974). Comments on the scope of the EIS evaluation will be accepted for 45 days from the date of this notice.

FOR FURTHER INFORMATION, TO SUBMIT COMMENTS, AND TO BE PLACED ON A PROJECT MAILING LIST, CONTACT: Mr. Allan Ota, U.S. Environmental Protection Agency, Region 9, Dredging and Sediment Management Team (WTR-8), 75 Hawthorne Street, San Francisco, California 94105-3901, Telephone: (415) 972-3476 or Fax: (415) 947-3537 or E-mail: R9Guam_ODMDS_Scoping@epa.gov.

SUMMARY: EPA intends to conduct public meetings and collect public comments in advance of preparing an EIS to designate a permanent ODMDS off Apra Harbor, Guam. This EIS will be prepared in cooperation with the U.S. Department of the Navy (Navy). An EIS is needed to provide the environmental information necessary to evaluate the potential environmental impacts associated with ODMDS alternatives and select a preferred alternative that meets EPA's site selection criteria at 40 CFR 228.5 and 228.6.

Need for Action: Both the Navy and the Port Authority of Guam (PAG) have plans to expand their operations in Apra Harbor, Guam. Expansion of the Apra Harbor Naval Complex and Commercial Port is proposed to accommodate projected increases in vessel and cargo traffic, newer classes of vessels and dockside maintenance and support operations. Expansion plans would require dredging to increase water depths for the safe navigation of military and commercial vessels. In addition, ongoing navigation activities also require periodic maintenance dredging. It should be noted that designation of an ODMDS does not constitute approval of ocean disposal. The Corps, with EPA concurrence, must first determine on a case by case basis that the proposed dredged material is suitable and that all beneficial reuse or other alternatives to ocean disposal have been considered. However, not all of the anticipated dredged materials can be accommodated in existing landfills and these sediments may not all be suitable for beneficial re-use (e.g., construction fills, wetlands restoration). Therefore, it is necessary to establish a permanent ODMDS to accommodate dredged material generated from anticipated new work and maintenance dredging in Apra Harbor.

Alternatives: The following proposed alternatives have been tentatively defined.

—“No Action”—Do not designate a permanent ODMDS, and continue to manage dredged material generated from new work and maintenance dredging with existing landfill and construction fill options subject to disposal volume limits. Future expansion of the naval and commercial port facilities will be limited significantly.

—“North Alternative ODMDS”—Designate a permanent ODMDS north of Apra Harbor, Guam, in a study area approximately 12-15 nautical miles offshore and in depths ranging from 6,000 to 6,600 feet.

—“Northwest Alternative ODMDS”—Designate a permanent ODMDS northwest of Apra Harbor, Guam, in a study area approximately 9-15 nautical miles offshore and in depths ranging from 6,600 to 8,400 feet.

The North and Northwest study areas were identified in the Zone of Siting Feasibility (ZSF) Study, Ocean Dredged Material Disposal Site, Apra Harbor, Guam, Final Report (September 2006). This ZSF study excluded areas from further consideration, such as: shipping lanes, navigational hazards, military operating areas (i.e., for submarines), marine protected areas (i.e., marine preserves), and important fishing areas (commercial and recreational).

Scoping: EPA is requesting written comments from federal, state, and local governments, industry, non-governmental organizations, and the general public on the range of alternatives considered, specific environmental issues to be evaluated in the EIS, and the potential impacts of the alternatives for an ODMDS designated offshore of Apra Harbor, Guam. Scoping comments will be accepted for 45 days, beginning with the date of this Notice. A public scoping meeting is scheduled on the following date: December 6, 2007, from 6-8 p.m., at The Weston Resort Guam, 105 Gun Beach Road, Tumon, Guam. The EPA presentation will be followed by public comments and questions.

Estimated Date of Draft EIS Release: March 2009.

Dated: November 9, 2007.
Laura Yoshii,
Deputy Regional Administrator, Environmental Protection Agency, Region 9.
Dated: November 20, 2007.
Anne Norton-Miller,
Director, OFA.

[FR Doc. E7-23043 Filed 11-26-07; 8:45 am]

BILLING CODE 6560-50-P